DEPARTMENT OF TRANSPORTATION

Federal Aviation Administration

14 CFR Part 121

[Docket No.: FAA-2014-0205; Notice No. 14-03]

RIN 2120-AK17

Disclosure of Seat Dimensions to Facilitate Use of Child Safety Seats on Airplanes During Passenger-Carrying Operations

AGENCY: Federal Aviation Administration (FAA), Department of Transportation (DOT).

ACTION: Notice of proposed rulemaking (NPRM).

SUMMARY: The FAA Modernization and Reform Act of 2012 requires the Federal Aviation Administration to initiate rulemaking to require air carriers conducting domestic, flag, and supplemental operations to make available on their Web sites information to enable passengers to determine which child safety seats can be used on aircraft in these operations. To fulfill the requirements of the Act, the FAA proposes to require air carriers to make available on their Web sites the width of the widest passenger seat in each class of service for each make, model and series of airplane used in passenger-carrying operations. If finalized as proposed, this rule would provide greater information to caregivers to help them determine whether a particular child restraint system will fit in an airplane seat. This proposal does not affect existing regulations regarding the use of child restraint systems on board airplanes or a passenger under the age of 2 traveling onboard aircraft with or without the use of a child restraint system.

DATES: Send comments on or before June 30, 2014.

ADDRESSES: Send comments identified by docket number FAA-2014-0205 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: For technical questions concerning this action, contact Catherine Burnett, Air Transportation Division, AFS-200, Federal Aviation Administration, 800 Independence Avenue SW., Washington, DC 20591; telephone (202) 267-8166; email catherine.burnett@faa.gov.

For legal questions concerning this action, contact Sara L. Mikolop, International Law, Legislation, and Regulations Division, AGC-200; Federal Aviation Administration, 800 Independence Avenue SW., Washington, DC 20591; telephone (202) 267-3073; email sara.mikolop@faa.gov.

SUPPLEMENTARY INFORMATION:

Authority for This Rulemaking

The FAA's authority to issue rules on aviation safety is found in Title 49 of the United States Code (49 U.S.C.). Section 106 of Subtitle I describes the authority of the FAA Administrator. Subtitle VII, Aviation Programs, describes in more detail the scope of the agency's authority.

This rulemaking is promulgated under the authority described in 49 U.S.C. 106(f), which establishes the authority of the Administrator to promulgate regulations and rules and 49 U.S.C. 44701(a)(5), which requires the Administrator to promote safe flight of civil aircraft in air commerce by prescribing regulations and minimum standards for other practices, methods, and procedures necessary for safety in air commerce and national security.

In addition, section 412 of the FAA Modernization and Reform Act of 2012 (Pub. L. 112-95) ¹ specifically required the FAA to conduct rulemaking “[T]o require each air carrier operating under part 121 of title 14, Code of Federal Regulations, to post on the Internet Web site of the air carrier the maximum dimensions of a child safety seat that can be used on each aircraft operated by the air carrier to enable passengers to determine which child safety seats can be used on those aircraft.” ² This rulemaking is within the scope of the authority in Public Law 112-95.

¹ Codified as a preceding note to 49 U.S.C. 42301, 126 Stat. 89.

² Section 412 of Public Law 112-95 uses the term “child safety seat.” However, the FAA uses the term “child restraint system” to describe an approved seat or device used to restrain children on aircraft. Thus, for consistency with existing FAA regulations, this proposal uses the term child restraint system (CRS), rather than child safety seat.

I. Overview of Proposed Rule

Current regulations regarding the use of a child restraint system (CRS) on airplanes operating under part 121 are found in Title 14 of the Code of Federal Regulations (14 CFR) § 121.311. Under the provisions in part 121, no certificate holder ³ may prohibit a child from using an approved CRS when the caregiver ⁴ purchases a ticket for the child.

³ The FAA notes that Public Law 112-95 uses the term “air carrier.” FAA regulations use terms such as “certificate holders”, “operators”, and “air carriers” to describe a person who undertakes directly by lease, or other arrangement, to engage in air transportation. Thus, for consistency with existing FAA regulations, this proposal uses the term “air carrier” to refer to these persons.

⁴ Section 121.311 uses the term “parent, guardian, or designated attendant” to refer to the person traveling with, and providing care for, the child. For ease of reference the FAA has used “caregiver” throughout this document to refer to these persons.

The FAA strongly encourages the use of an FAA-approved CRS on aircraft.⁵ However, in a small number of cases, an approved CRS may not fit in a particular airplane seat because of the size of the CRS. Accordingly, the FAA has issued guidance to facilitate the use of a CRS on aircraft in situations when a caregiver purchased a ticket for the child but the approved CRS that the caregiver wishes to use does not fit in a particular seat on the aircraft.⁶ Although the FAA has provided guidance to air carriers regarding how to accommodate a CRS that does not fit in a particular seat, this proposed rulemaking would give caregivers additional information on whether an FAA-approved CRS will fit on the airplane on which they expect to travel.

⁵ See http://www.faa.gov/passengers/fly_children/crs/(visited December 6, 2013).

⁶ Advisory Circular (AC) 120-87B, Use of Child Restraint Systems on Aircraft (September 17, 2010) is available at http://www.faa.gov/regulations_policies/advisory_circulars/index.cfm/go/document.information/documentID/388616.

Information For Operators (InFO) 11007 Regulatory Requirements Regarding Accommodation of Child Restraint Systems—Update (March 10, 2011) is available at http://www.faa.gov/other_visit/aviation_industry/airline_operators/airline_safety/info/all_infos/.

This rule proposes to require air carriers operating under 14 CFR part 121 that have Web sites to post on their Web sites information regarding aircraft seat dimensions. Specifically, affected air carriers must post the width of the widest passenger seat in each class of service for each airplane make, model and series operated in passenger-carrying operations that the air carrier permits to be used to accommodate a CRS. By requiring air carriers to make this information available, the agency expects caregivers to have more information about whether a specific CRS can be used on the aircraft on which they expect to travel.

The FAA emphasizes that this NPRM proposes an information disclosure requirement only. It does not propose to create any new operational requirements for air carriers or flight attendants. It does not change any existing provisions regarding the use of CRSs on board airplanes or existing regulations regarding passengers under the age of 2 traveling on board airplanes with or without the use of a CRS.

In addition, the FAA notes that this proposal does not require an air carrier to identify the specific airplane that it will use on a given flight. Finally, the FAA notes that while this rule requires air carriers to post certain information to their Web sites, it does not require an air carrier that does not have a Web site to establish a Web site for purposes of this rule.

II. Background

A. Current Regulations

Current requirements regarding the use of CRSs in part 121 operations are found in 14 CFR 121.311. Currently, § 121.311(c)(2) generally states that no air carrier may prohibit a child, if requested by the child's caregiver, from occupying a CRS furnished by the child's caregiver provided that the child holds a ticket for an approved seat or a seat is made available by the air carrier for the child's use, the child is accompanied by a caregiver and the CRS is appropriately labeled and secured. However, § 121.311(c)(3) permits air carriers to determine the most appropriate passenger seat location for a CRS based on safe operating practices. For example, if an approved CRS, for which a ticket has been purchased, does not fit in a particular seat on the airplane, existing § 121.311 permits an air carrier to identify the most appropriate alternate forward-facing passenger seat location, considering safe operating practices.

In assessing the most appropriate location for a CRS, an air carrier must consider a number of factors. For example, the CRS must be installed in a forward-facing aircraft seat in accordance with instructions on the CRS label. This includes placing the CRS in the appropriate forward- or aft-facing direction as indicated on the label for the size of the child. A window seat is the preferred location; however, other locations may be acceptable, provided the CRS does not block the egress of any passenger, including the child's caregiver, to the aisle used to evacuate the airplane.

B. Public Information and Guidance Material

The FAA encourages the use of an approved CRS on aircraft and has committed to educate and inform air carriers, crewmembers and passengers regarding the use of a CRS on aircraft in order to increase CRS use on aircraft. Accordingly, the FAA provides information on its Web site for caregivers traveling with children and the use of a CRS on aircraft. The public information and guidance material is intended to be useful to caregivers in support of the agency's commitment regarding CRS use. The FAA has previously tried to address the issue of “CRS fit” in airplane seats. For example, on its Web site, the FAA states that a CRS with a maximum width of 16 inches should fit in most airplane seats.⁷

⁷ http://www.faa.gov/passengers/media/childsafety.pdf (visited December 6, 2013).

The FAA has also provided guidance to air carriers regarding CRS use on aircraft and related regulations. Advisory Circular (AC) 120-87B, Use of Child Restraint Systems on Aircraft, is intended to serve as a resource during development, implementation, and revision of an air carrier's standard operating procedures and training programs regarding the use of CRSs. The AC provides information on placement of a CRS on aircraft that may be considered by air carriers as they develop policies based on safe operating practices establishing certain seat locations for a CRS on a specific aircraft. For example, AC 120-87B provides information for air carriers to consider regarding placement of a CRS in an aisle seat or in a seat forward or aft of an emergency exit row.

Further, the agency reiterates in AC 120-87B that no air carrier may prohibit a child from using an approved CRS when a caregiver purchases a ticket for that child. The FAA encourages air carriers to allow the use of an empty seat to accommodate a CRS; however, air carriers are not required to allow unticketed children to occupy an empty passenger seat, even if the child uses a CRS. Prohibiting a ticketed child from using a CRS, when there are seats on the aircraft in which the CRS could be safely used, would be inconsistent with § 121.311.

The FAA also published Information for Operators (InFO) 11007, Regulatory Requirements Regarding Accommodation of Child Restraint Systems—Update, to clarify regulations regarding accommodation of CRSs and to provide information for a CRS with a detachable base. As with AC 120-87B, InFO 11007 provides examples of CRS design variations and lists possible solutions for accommodation. For example, a CRS with a base that is too wide to fit properly in a seat with rigid armrests could be moved to a seat with moveable armrests that can be raised to accommodate the CRS, and an aft-facing CRS that cannot be installed properly, because of minimal pitch (distance between rows of seats), can be moved to a bulkhead seat or a seat in a row with additional pitch.

III. FAA Modernization and Reform Act of 2012

Section 412 of the FAA Modernization and Reform Act of 2012 (Pub. L. 112-95) directs the FAA to initiate rulemaking “[T]o require each air carrier operating under part 121 of title 14, Code of Federal Regulations, to post on the Internet Web site of the air carrier the maximum dimensions of a child safety seat that can be used on each aircraft operated by the air carrier to enable passengers to determine which child safety seats can be used on those aircraft.” Congress intended this rulemaking to “facilitate the use of child safety seats on aircraft” and “enable passengers to determine which child safety seats can be used on those aircraft.” ⁸ This proposal is responsive to the requirement for the FAA to initiate a rulemaking in Public Law 112-95.

⁸ H. R. Rep. No. 112-381 (2012) at 80 and 216 (Conf. Rep.).

IV. Discussion of the Proposal

The purpose of this proposal is to make more information available to allow caregivers to make a determination regarding CRS fit prior to a flight. The agency proposes to require air carriers to publish on their Web sites the width of the widest passenger seat in each class of service for aircraft used in passenger-carrying operations. This proposed information disclosure requirement would supplement current regulations that allow the use of an approved CRS and FAA guidance to caregivers regarding CRS fit in airplane seats. This proposed requirement would only apply to part 121 air carriers conducting passenger-carrying operations because all-cargo operations have generally been excluded from part 121 requirements pertaining to passengers.⁹

⁹ Part 121 passenger-carrying operations are defined in § 110.2 to mean “any aircraft operation carrying any person, unless the only persons on the aircraft are those identified in §§ 121.583(a) or 135.85 of this chapter, as applicable. An aircraft used in a passenger-carrying operation may also carry cargo or mail in addition to passengers.”

This proposal also responds to the requirement to initiate rulemaking in section 412 of Public Law 112-95. The FAA considered a number of alternative methods by which to implement the rulemaking requirements of section 412 of Public Law 112-95 and discusses each below. In considering each alternative, the FAA sought to address the intent of Congress, respond to the informational needs of a caregiver traveling with a child using a CRS, and ensure that the proposal does not unintentionally discourage the use of a CRS.

Airplane passenger seat dimensions: Although Public Law 112-95 refers to the maximum dimensions of child safety seats that can be used on each aircraft the operator uses, the FAA has proposed an alternate approach in order to implement the statute's goal to enable a passenger to determine which CRS can be used on an aircraft. The FAA does not believe that it is practical for each air carrier to provide the maximum dimensions of one or many CRSs the carrier does not possess or to which the carrier does not have ready access. In contrast, air carriers have ready access to the airplanes they operate and information regarding those aircraft. Therefore, the agency proposes to require air carriers to provide seat dimension data to fulfill the intent of the statutory requirement for rulemaking. Seat dimension data provides information equivalent to CRS dimension data that can be used to assist caregivers in making a determination as to whether a CRS will fit in a passenger seat on the aircraft on which they expect to travel.

Further, the agency notes that information regarding seat dimensions or CRS fit for each individual airplane that an air carrier operates is not necessary or practical. Although some air carriers operate hundreds of airplanes, airplanes of the same make, model and series typically share the same seat dimensions. Given this commonality of aircraft within an air carrier's fleet and the absence of a requirement for air carriers to identify the specific airplane for a specific flight, individual airplane information would not serve to facilitate CRS use. However, seat dimension information for each airplane make, model and series that a certificate holder uses in passenger-carrying operations correlates to the information air carriers currently provide to passengers for a specific flight.

Airplane passenger seat pitch: The FAA believes that the predominant passenger seat dimension that limits CRS use is the width of the passenger seat. In some circumstances, seat pitch (distance between rows of seats) can affect the use of a CRS that must be used in an aft-facing position; however, using pitch to determine CRS fit is complex and minimally effective without additional detail. Air carriers can easily provide the distance between rows of passenger seats or “pitch”. However, an aft-facing CRS does not have an equivalent measurement to “pitch” as it does to “width”. In order to be installed properly, an aft-facing CRS must be installed in an aircraft seat on an angle. Aft-facing CRSs have installed level indicators (typically a moving ball or needle that must stay between two lines) that indicate when the CRS is properly oriented in the airplane seat. Therefore, although seat pitch can affect whether there is enough room to properly use a rear-facing CRS, it is only part of the triangular equation with several variables and would make it difficult to provide meaningful information to a caregiver.

Additionally, if a rear-facing CRS does not fit in a row because of seat pitch, an air carrier can move the CRS to a seat in a bulkhead row (where pitch is not typically an issue), in that same class of service, to accommodate the aft-facing CRS. Accordingly, the agency is not proposing to require air carriers to provide information regarding seat pitch.

Airplane passenger seat width for each class of service: Given that currently when a CRS does not fit within the seat for which a caregiver has purchased a ticket, the operator must accommodate the CRS use within the same class of service, the agency proposes to require seat dimension disclosure for each class of service (§ 121.311 and AC 120-87). This proposal also specifies that seat width information (the distance between the seat arm rests) must be provided for each class of service due to the potential variation in airplane seat widths among different classes of service and within a single class of service. Further, as discussed above, seat width is the predominant passenger seat dimension that limits CRS fit.

The agency notes, however, that while information regarding an airplane type may be provided to passengers prior to a flight, this proposal does not require an air carrier to identify the specific airplane that it will use on a given flight.

Width of the narrowest seat within each class of service: The FAA considered requiring air carriers to provide the width of the narrowest passenger seat in each class of service for each airplane make, model, and series. The FAA reasoned that if a CRS fits in the narrowest passenger seat in each class of service, then it will fit in any seat in that class of service.

However, the agency is concerned that a requirement to disclose the seat width dimension for only the narrowest seat could create an unintended safety consequence. The agency is concerned that if a caregiver discovers that the CRS they wish to use is wider than the published width of the narrowest passenger seat, that caregiver might choose not to bring the CRS even if, unbeknownst to the caregiver, the airplane has passenger seats installed that are wide enough to accommodate the CRS within the same class of service. Use of a CRS is the safest way for a child to travel on an airplane, and the FAA does not wish to implement a regulation that might have the unintended consequence of causing caregivers to forgo the use of CRSs for child passengers.

For instance, a caregiver purchases a seat for a child and plans to use a CRS for that child. The Web site of the air carrier on which the caregiver and child are traveling states that the minimum width of the seat on the make, model, and series of the airplane on which the caregiver and child are traveling is 14 inches. The CRS the caregiver plans to use on the airplane is 15 inches wide. However, the operator has seats in the same class of service that are 16 inches wide. In actuality, the CRS would fit in the wider seat in the same class of service, but the concern of the FAA is that the caregiver might choose to not bring the CRS for use on the airplane because the caregiver believes that the CRS would not fit. Alternatively, the caregiver might even choose not to purchase a separate seat for the child and might elect to hold the child, provided the child has not reached his or her second birthday, as permitted by existing regulations. The publication of seat dimensions should not discourage the use of CRSs.

Width of the widest seat within each class of service: Based on the foregoing analysis, the FAA proposes to add a paragraph (k) to § 121.311 to require each part 121 air carrier to make available on its Web site the width of the widest passenger seat in each class of service for each airplane make, model, and series used in passenger-carrying operations. The FAA believes that disclosure of the width of the widest seat in each class of service will provide the information necessary for caregivers to better determine if the CRS they provide for their child will fit in the airplane on which they expect to travel and thus may encourage more widespread use of CRSs in air transportation.

If a caregiver knows the width dimension of the widest seat for a particular class of service on an airplane, and if the CRS the caregiver intends to use on the flight fits that dimension, then the caregiver would know that at least one seat in the class of service on the airplane would accommodate the CRS. This would enable caregivers to have more information on which to make a decision as to whether to bring the CRS for that child's use.

Further, the agency expects that information regarding seat width will address the predominant limiting seat dimension. The provision of seat width for the widest seat in each class of service serves to avoid the unintended consequence of dissuading a caregiver to use a CRS and to limit the instances in which a caregiver expects to use a CRS but cannot, due to fit or the operator's safety determination.

As noted previously, it is the responsibility of the air carrier, and a regulatory requirement, to accommodate the CRS in another seat in the same class of service (§ 121.311(c)(2) and AC 120-87B). While knowing the width of the widest seat is valuable in a caregiver's decision-making process, as it indicates whether the CRS would fit in a single seat, the FAA notes that a CRS that has a base wider than the widest seat may still be accommodated on an airplane by raising armrests or taking other measures where possible.

Web site disclosure: The FAA notes that a number of air carriers currently conducting passenger-carrying operations already provide seat dimension information on their Web sites. For example, some air carriers currently provide both the pitch and width for the passenger seats in each class of service. The agency expects, however, that the information disclosure proposed in this NPRM would increase the instances in which caregivers are able to pre-determine whether a CRS will fit on an airplane make, model, and series on which they expect to travel.

As discussed in the guidance material associated with this rulemaking, the FAA believes that air carriers would use existing information pages on their Web sites that already provide information regarding CRSs to list the width of the widest seats for each class of service on each airplane make, model, and series in their fleet. Based on the FAA's review of aircraft used by affected air carriers, the FAA determined that many air carriers have seats whose dimensions are the same for several airplane makes, models, and series. Further, many air carriers appear to have only one seat size for each class of service for many airplane makes, models, and series. Finally, the FAA notes that if this rule is finalized as proposed, the only time air carriers would need to update their Web sites after initial implementation would be when a new airplane make, model, or series is introduced to an air carrier's fleet, or when an air carrier replaces the widest seats installed on an existing airplane make, model, or series with wider or narrower seats.

Effective Date: The FAA recognizes that different operators will need different lengths of time to comply with this regulation due to variations in information technology systems, variations in the data that is currently published, and the range of numbers of airplane make, model and series in each operator's fleet. Therefore, the FAA is proposing an effective date of 150 days after the date of publication of the final rule in the Federal Register. Compliance would be required on the effective date. The FAA seeks comment regarding the proposed effective date.

Miscellaneous: The agency proposes a conforming change to 14 CFR 121.583 to make clear that the requirement applies in passenger-carrying operations only.

Request for comments on proposal and alternatives: The FAA invites commenters to address whether they agree with the approach taken in this NPRM. In particular, the agency seeks comment on the following:

(1) Whether the disclosure requirements proposed in this rule provide the most helpful information for caregivers to ascertain CRS fit on aircraft;

(2) How disclosure of the width of only the narrowest seat in each class of service could facilitate CRS without discouraging caregivers from using a CRS that is larger than the narrowest seat;

(3) Whether disclosure of both the narrowest seat and the widest seat in each class of service would be more effective in achieving the statutory intent of facilitating CRS use; and

(4) Whether disclosure of the width of the widest seat on the aircraft or the narrowest seat on the aircraft, without regard to class of service, would facilitate CRS use due to the potential accommodations (e.g., moving armrests) that can be made to assist with CRS fit. Note: The FAA is not suggesting that it would ever require an operator to move a passenger from one class of service to another to accommodate a CRS.

The agency asks that commenters explain how any alternative approach would satisfy the statutory requirement for rulemaking, provide greater information to caregivers to help them determine whether a particular CRS will fit in an airplane seat, and avoid unintentionally discouraging the use of a CRS. The FAA may incorporate any such recommendations regarding alternative approaches into a final rule.

Part 11 Amendment: The FAA has submitted a request for Office of Management and Budget (OMB) approval for the information collection activities proposed in this rulemaking. Assuming OMB approves the information collection and assigns an OMB control number, the FAA will update the table in § 11.201(b) to display this control number.

V. Guidance Documents

To further implement this NPRM, the FAA is proposing to revise several guidance documents to include the availability of information for air carriers regarding compliance with the proposed rule. Specifically, the FAA is proposing to revise AC 120-87B, Use of Child Restraint Systems on Aircraft, and InFO 11007, Regulatory Requirements Regarding Accommodation of Child Restraint Systems—Update. The draft revised AC and draft revised InFO have been placed in the electronic docket of this rulemaking. Persons wishing to provide comments regarding the draft revised AC and InFO may do so by following the comment process discussed in the DATES and ADDRESSES sections of this rulemaking.

VI. Regulatory Notices and Analyses

A. Regulatory Evaluation

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Agreements Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule.

Department of Transportation Order DOT 2100.5 prescribes policies and procedures for simplification, analysis, and review of regulations. If the expected cost impact is so minimal that a proposed or final rule does not warrant a full evaluation, this order permits that a statement to that effect and the basis for it to be included in the preamble if a full regulatory evaluation of the cost and benefits is not prepared. Such a determination has been made for this proposed rule. The reasoning for this determination follows.

The FAA estimates that children under the age of two represent one percent of all commercial passengers.¹⁰ When travelling by air, caregivers for these children may purchase either one ticket (which requires the child to sit in the caregiver's lap) or two tickets (which allows a child to be securely restrained in a CRS). The agency does not have the exact count of passengers younger than two or whether those passengers arrived at their destination sitting in the lap of a caregiver or secured in an aircraft seat using either a CRS or a lap belt.

¹⁰ Child Passenger Safety Forum, National Transportation Safety Board, December 9, 2010, Summary Report at page 3.

For child safety purposes, the FAA encourages (but does not require) caregivers to purchase a separate ticket for each child under the age of two so that the child can be securely restrained in a CRS. This guidance is based on the FAA's analysis that if caregivers are forced to purchase airline seats for children under age 2, the additional cost of an airline ticket will motivate some families to drive to their destination instead of fly. As background, in Section 522 of Public Law 103-305, Congress required the Secretary of Transportation to study the impact of mandating the use of CRSs for children under 2 years old on scheduled air carriers. The Secretary submitted a report of this study to Congress in 1995. The report estimated that, if a child restraint rule were imposed, approximately five infant lives would be saved aboard aircraft, and two major injuries and four minor injuries would be avoided over a 10-year period. The report also cautioned that this improvement would be offset by additional highway fatalities for airline passengers who chose to drive rather than purchase a seat for infants. Even if infant fares were only 25 percent of full fare, the report estimated that there would be diversion to cars and thus a net increase in fatalities over a 10-year period. The concern expressed in the Report to Congress was that mandating CRSs (which require a passenger seat) could increase airline travel costs to families with infants enough to cause a significant number to travel by automobile instead of by air. This, in turn, would expose the entire family to the higher risks of automobile travel and associated highway fatalities and injuries.¹¹ The FAA updated this report in December, 2011, and confirmed its conclusion.¹²

¹¹ See 70 FR 50266, Aug. 26, 2005. A copy of the Report to Congress has been placed in the docket.

¹² “Update of Safety Benefits & Tradeoffs Related to Requiring the Use of Child Restraint Systems on Aircraft for Children Less Than Two Years of Age” December, 2011. http://www.dot.gov/faac/report/update-safety-benefits-tradeoffs-related.

Currently, air carriers are not required to disclose seat dimension information on their Web sites. It is believed that some caregivers choose not to travel with a CRS due to concern that the seat will not fit the particular equipment being flown. Congress directed the FAA to conduct rulemaking “[T]o require each air carrier operating under part 121, to post on the Internet Web site of the air carrier the maximum dimensions of a child safety seat that can be used to enable passengers to determine which child safety seats can be used on those aircraft.” See Public Law 95-112. Once implemented, this rule would require each part 121 air carrier that conducts passenger-carrying operations to post seat dimension information to their Web site (air carriers that do not have Web sites are excluded from this rule). This rule will benefit caregivers by making seat dimension information accessible, which in turn will allow them to determine if a particular CRS will fit in a seat of an aircraft. A caregiver may be inclined to purchase a separate ticket for a child knowing that the child can be secured in a CRS during flight.

The FAA considered several alternatives for determining the type of seat dimension information to be posted on air carrier Web sites. One alternative required the width of each seat in each class of service for each individual airplane operated by an air carrier be posted on its Web site. While this alternative would provide the most precise information to caregivers, the FAA believes that maintaining this much detail to be unnecessarily onerous for the air carriers because multiple seats of the same width can be found in each class of service. Further, in order for this information to be useful, there can be no change in a flight's equipment from the time a ticket is purchased to the time of the flight's departure.

Another alternative required air carriers to publish only one dimension—that of the narrowest seat across an air carrier's entire fleet. This alternative, however, would only allow a caregiver to determine if there may be a possibility of a particular CRS fitting a particular airline seat on a particular flight. The FAA believes that providing the dimension of the narrowest seat only across an entire fleet would not facilitate CRS use because a caregiver with a CRS larger than the narrowest seat may be discouraged from using a CRS, even though there may be wider seats available that could accommodate the CRS. Therefore this approach would not meet the intent of Congress when it mandated disclosure of seat dimensions.

After considering the alternatives, the FAA decided that the information to be posted on air carrier Web sites should provide caregivers with data to facilitate CRS use but should not be overly burdensome for the air carriers. Based on these criteria, this rulemaking proposes to require an air carrier to post on its Web site the width of the widest seat for each make, model, and series of aircraft in each class of service in the air carrier's fleet. This level of detail is reasonable given that most air carriers already disclose other airplane-related dimensions on their Web sites, including dimensions for overhead bins, space underneath seats, maximum size of carry-on luggage, and maximum size for pet carriers. Because of the level of detail air carriers are already providing, the FAA believes that the requirements of this rule will be a minimal impact to those part 121 air carriers conducting passenger-carrying operations.

To provide a range of costs to comply with this rule, estimates for a low case and a high case were prepared. In the low case, over a ten-year period the cost to the industry from this rulemaking will be about $208 thousand in 2012 dollars ($152 thousand at seven percent present value). In the high case the cost is estimated to be approximately $357 thousand in 2012 dollars ($260 thousand at seven percent present value). In both the low and high case, this rule is considered to be minimal cost for part 121 operators.

The FAA reports there to be 81 part 121 air carriers; ¹³ however only 58 ¹⁴ of these air carriers are impacted by this rule. Excluded from this rule's analysis are 16 supplemental cargo carriers; 5 air carriers that have not reported any passengers to the DOT Bureau of Transport Statistics (BTS) since at least October 2012 (4 of which primarily fly cargo but are certificated to fly passengers); 1 air carrier that has ceased operations and filed for bankruptcy; and 1 air carrier that does not have an internet Web site (air carriers that do not have Web sites are exempt from this rule). The FAA notes that while Southwest Airlines and AirTran Airways hold a single operating certificate, for purposes of this analysis they will be treated as separate entities since separate Web sites are maintained.

¹³ FAA data from Q3, FY 2012.

¹⁴ Although only 58 carriers are impacted by this rule, a total of 59 Web sites are affected. While Southwest Airlines and AirTran Airways share a single operating certificate, they continue to maintain separate Web sites for ticket sales.

To determine the cost of this rule, hours are estimated for each occupational job series ¹⁵ required to complete the task. The estimated hours are then multiplied by the United States Department of Labor Bureau of Labor Statistics (BLS) fully-burdened hourly wage rate for the corresponding occupational job series. Thus, the rule's total cost equals hours worked multiplied by hourly wages, summed across all part 121 air carriers affected by this rule. Additional detail on how this cost estimate is constructed follows.

¹⁵ Based on United States Department of Labor, Bureau of Labor Statistics Occupational Codes.

As the basis for this rulemaking, the FAA used assumptions regarding job skills and labor hours from the regulatory analysis ¹⁶ for the DOT's recent “Enhancing Airline Passenger Protections” ¹⁷ rule. One provision of the DOT's rule required an air carrier to post on its Web site a tarmac delay plan and a customer commitment plan. The FAA believes that the skills and labor hours necessary to post seat dimension information to an air carrier's Web site are similar to those estimated for posting a tarmac delay plan and customer commitment plan. During the first year of the DOT rule's implementation, it was estimated that it would take a computer programmer and a supervisor/manager a total of 8 hours to post the customer commitment plan and tarmac delay plan to an air carrier's Web site. The FAA is using the DOT estimate as the foundation for the time required to perform the work required to comply with the seat dimension disclosure rule, if finalized as proposed.

¹⁶ Final Regulatory Analysis, Consumer Rulemaking: Enhancing Airline Passenger Protections II at p. 43. This document can be found in Docket No. DOT-OST-2010-0140 or at http://www.regulations.gov/#!documentDetail;D=DOT-OST-2010-0140-2046.

¹⁷ 76 FR 23110, April 25, 2011.

To show a range of costs that may be incurred by air carriers due to this rulemaking, the FAA prepared a low-case and high-case estimate.¹⁸ The variable that changes between the two cases is the assumption for base staff hours. In the low case it is assumed that a minimum of 8.0 base staff hours are required for an air carrier to comply with the rule whereas the high case assumes a minimum of 16.0 base staff hours. The assumption for wages is held constant and does not vary between the low case and high case. It is important to note that even in the high case, the rule is still expected to be minimal cost.

¹⁸ To estimate costs for this rule, labor hours are composed of staff hours and management hours. Staff hours are assumed to be performed by BLS Job Series 15-1140—Database and Systems Administrators and Network Architects. Management hours are performed by BLS Job Series 15-3021—Computer and Information Systems Managers.

Estimation of Hours—Year 1

It is assumed that the time required for an air carrier to revise its Web site to include seat dimension information is most labor intensive during the first year of the rule's implementation. The estimated hours to comply with this rule for year 1 are allocated between work performed by staff versus work performed by management.

Staff Hours: Staff hours are comprised of two components: base hours and variable hours. Base hours are dependent upon whether an air carrier has (or does not have) a Web site link to fleet information at the time the rule goes into effect. Variable hours fluctuate according to the count of make, model, and series of aircraft in an air carrier's fleet.

Base Hours: Base hours are dependent upon whether an air carrier does or does not have a link to fleet information at the time the rule is implemented. In the low case, it is assumed that 8.0 base hours are required to bring a Web site into compliance for those air carriers that already have a link to fleet information at the time the rule goes into effect. For air carriers that do not have a link to fleet information at the time the rule is implemented it is assumed that base hours will total 16.0.

For the high case, the base hours required for an air carrier to comply with the rule is assumed to be twice that of the low case. Thus, in the high case, base hours for air carriers that already have a link to fleet information are assumed to be 16.0; for those air carriers without a link to fleet information at the time of the rule's implementation base hours are assumed to total 32.0.

Variable Hours: Variable hours fluctuate according to the count of different make, model, and series of aircraft each air carrier has in its fleet. (For example, for an A319-100, the make is Airbus; the model is 319; the series is 100.) It is assumed an additional 0.5 hours of staff time beyond the base hour component is required for gathering and analyzing seat dimension information for each make, model, and series of aircraft in an air carrier's fleet. The rationale for the variable hour component is that it builds in additional time (and thus costs) for air carriers that have multiple aircraft types compared to air carriers that may operate only one make, model, and series of aircraft. Unlike base hours, which have separate assumptions for the low and high case, variable hours are fixed for each air carrier and will remain the same for both the low and high case.

Next, for illustrative purposes, an example is provided to show the calculation of the low-case estimate for a single air carrier's staff hours during the initial year the rule is in effect. This example is based on the following two assumptions: 1) the air carrier already has a link to fleet information on its Web site; 2) the air carrier operates a fleet of 15 different make, model, and series of aircraft. Based on these assumptions, the estimated staff hours total 15.5. The 15.5 hours is composed of 8 base hours (because the air carrier already has a link to fleet information) plus 7.5 variable hours (0.5 hours * 15 different make/model/series of aircraft). If the first assumption in the example is changed to assume that the air carrier does not already have a Web site link to its fleet information, the estimated hours would total 23.5 (16 base hours plus 7.5 variable hours).

Of the 59 Web sites ¹⁹ included in this analysis, 53 have a dedicated link to information regarding fleet specifications and 6 (3 belonging to scheduled air carriers and 3 belonging to nonscheduled air carriers) do not. The count of make, model, and series of aircraft operated by any one air carrier ranges from one to seventeen.

¹⁹ See footnote 14.

Management Hours: Management oversight is required by each air carrier to verify that the update to the Web site has been completed. In terms of hours, it is assumed that each of the 59 Web sites will require two hours of management review time to verify accuracy of data. This assumption is the same for both the low and high case.

Estimation of Hours—Years 2 Through 10

For years 2 through 10 of this rule it is assumed that through the ordinary course of business less time is required, relative to year 1, to maintain the accuracy of seat dimension information posted to an air carrier's Web site. During this timeframe, it is established that air carriers with Web sites have already posted seat dimension information; thus air carriers may only need to revise the data periodically.

Staff Hours: There is only one component for staff hours in the low and high case during the follow-on years of the rulemaking. For the low case, it is estimated that each of the air carriers will require 4 staff hours annually for posting revised data. In the high case, the estimated hours for the low case are doubled, for a total of 8 staff hours per year.

Management Hours: Management hours required for oversight during years 2 through 10 is estimated to be one hour per year. This estimate is the same for both the low and high case.

Table 1—Assumptions
[Hours required per air carrier to implement and update web site]
Year | Does the air carrier's pre-mandate web layout have a link to fleet? | Staff hours: Low case: Base | Staff hours: Low case: Variable | Staff hours: High case: Base | Staff hours: High case: Variable | Mgmt. hours
1 | Yes | 8 | 0.5 | 16 | 0.5 | 2
| No | 16 |  | 32
2-10 | Not Applicable | 4 | N/A | 8 | N/A | 1

The FAA seeks comment on its assumption of hours required for an air carrier to post seat dimension information to its Web site.

Staff and Management Wages—Years 1 Through 10

The total cost to air carriers for compliance with this rule is the sum of compensation ²⁰ to staff and management for hours worked. To determine compensation for performance of this work, BLS data are used. Based on BLS job titles,²¹ it is assumed that staff work is performed by Database and System Administrators and Network Architects (BLS Job Series 15-1140), and manager oversight is performed by Computer and Information Systems Managers (BLS Job Series 11-3021).

²⁰ Total hourly compensation is the sum of wages plus benefits.

²¹ As reported in the April 2012 Occupational Employment Statistics Survey.

Of the 59 Web sites included in this analysis, 41 of the Web sites belong to air carriers engaged in scheduled operations and 18 Web sites belong to air carriers engaged in nonscheduled operations. It is necessary to calculate hours for scheduled carriers independently of nonscheduled carriers since labor costs vary between the two.

The following table shows fully-burdened rates for these two job series for scheduled versus nonscheduled air carriers.

Table 2—Assumptions
[Hourly wage and benefits compensation*]
NAICS** | Job series | Job category | Job title | Hourly wage | Benefits *** | Total hourly compensation
481100 Scheduled Air Transportation | 15-1140 | Staff | Database and System Administrators and Network Architects | $42.14 | $17.80 | $59.94
| 11-3021 | Mgmt. | Computer and Information System Managers | 61.81 | 26.11 | 87.92
481200 Nonscheduled Air Transportation | 15-1140 | Staff | Database and System Administrators and Network Architects | 33.94 | 14.34 | 48.28
| 11-3021 | Mgmt. | Computer and Information System Managers | 48.65 | 20.55 | 69.20
* Source: U.S. Department of Labor, Bureau of Labor Statistics April 2012 Occupational Employment Statistics Survey (released in May 2013) (http:/stat.bls.gov/oes/home.htm).
** North American Industry Classification System—U.S. Census Bureau.
*** Source: U.S. Department of Labor, Bureau of Labor Statistics News Release dated June 12, 2013 “Employer Costs for Employee Compensation—March 2013” Page 3—Table A. Hourly wage rates are 70.3 percent of total hourly compensation. (http://www.bls.gov/news.release/archives/ecec_06122013.pdf).

For the low case, multiplying hours required annually for each carrier to comply with this rule by the fully-burdened hourly wage rate over a ten-year period totals a cost of approximately $208 thousand in 2012 dollars ($152 thousand at 7 percent present value). For the high case, the rule costs approximately $357 thousand ($260 thousand at 7 percent present value). During calendar year 2012, the operating revenues for 48 of the affected carriers were just over $159 billion (operating revenues for the remaining 10 carriers were not available). Tables 3 and 4 summarize the low and high case costs for years 1 through 10.

The FAA considers these costs to be minimal.

B. Regulatory Flexibility Determination

The Regulatory Flexibility Act (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The Small Business Administration (SBA) small entity size standard for air carriers is 1,500 employees or less. Of the 58 part 121 air carriers analyzed for this rule, 25 are classified as large entities and 20 as small entities.²² Employment statistics for the 13 remaining air carriers are not available; however, for purposes of the regulatory flexibility analysis, it is assumed that these 13 air carriers are small entities (for a total of 33 small entities). Since a majority of the air carriers analyzed for this rule are classified as small entities, the rule is expected to impact a substantial number of small entities.

²² Based on Form 41 Schedule P10 Statistics and air carrier Web sites.

For this regulatory flexibility analysis, calendar year (CY) 2012 operating revenues ²³ were compared to the estimated costs during year 1 of the rule. Of the 33 air carriers considered to be small entities, operating revenue data were only available for 23 of them. For the 23 air carriers reporting financial data to BTS, the estimated cost of this rule was no greater than .03 percent of any carrier's CY 2012 operating revenues. The FAA believes a compliance cost of .03 percent relative to annual revenue is not a significant economic impact.

²³ Based on Department of Transportation Statistics Form 41 and 298C Financial Data.

Therefore, as provided in section 605(b), the head of the FAA certifies that this rulemaking will not result in a significant economic impact on a substantial number of small entities.

C. Unfunded Mandates Assessment

Title II of the Unfunded Mandates Reform Act of 1995 (Pub. L. 104-4) requires each Federal agency to prepare a written statement assessing the effects of any Federal mandate in a proposed or final agency rule that may result in an expenditure of $100 million or more (adjusted annually for inflation) in any one year by State, local, and tribal governments, in the aggregate, or by the private sector; such a mandate is deemed to be a “significant regulatory action.” The FAA currently uses an inflation-adjusted value of $151.0 million in lieu of $100 million. This proposed rule would not contain such a mandate; therefore, the requirements of Title II do not apply.

D. Paperwork Reduction Act

The Paperwork Reduction Act of 1995 (44 U.S.C. 3507(d)) requires that the FAA consider the impact of paperwork and other information collection burdens imposed on the public. According to the Paperwork Reduction Act of 1995 and regulations implementing the Act (5 CFR part 1320), an agency may not collect or sponsor the collection of information, nor may it impose an information collection requirement unless it displays a currently valid Office of Management and Budget (OMB) control number.

This action contains the following proposed new information collection requirements. As required by the Paperwork Reduction Act of 1995 (44 U.S.C. 3507(d)), the FAA has submitted these proposed information collection amendments to OMB for its review.

Summary: The FAA proposes to require air carriers conducting domestic, flag, and supplemental operations to make available on their Web sites the width of the widest passenger seat in each class of service for each airplane make, model, and series, used in passenger-carrying operations. If finalized as proposed, this rule amends 14 CFR 121.311.

Use: This rule is intended to facilitate the use of child restraint systems onboard airplanes. If finalized as proposed, this rule would provide greater information to caregivers to help them determine whether a particular child restraint system will fit on a particular airplane.

Respondents (including number of): Respondents include each affected part 121 scheduled and nonscheduled passenger-carrying air carrier, which are 58.

Frequency: Each affected air carrier must comply with this rule after it is finalized. Once this rule is initially implemented, the only time air carriers would need to update their Web sites would be when a new airplane make, model, or series is introduced or when the widest seat in a class of service in a currently listed make, model, or series of airplane is replaced with a larger or smaller seat.

Annual Burden Estimate: All of the costs accounted for in the economic analysis for this rulemaking relate to the information collection burden. A summary of the annual burden estimate for the low case and the high case expected to result from this proposal for years 1, 2, and 3 by carrier type (scheduled and nonscheduled) is provided in the tables below.

Additional detail regarding the annual burden is provided in the regulatory evaluation discussion provided in this preamble (Section VI. Regulatory Notices and Analyses, A. Regulatory Evaluation) as well as the Supporting Statement for Paperwork Reduction Act Submissions associated with this rulemaking.

The agency is soliciting comments to—

• Evaluate whether the proposed information requirement is necessary for the proper performance of the functions of the agency, including whether the information will have practical utility;

• Evaluate the accuracy of the agency's estimate of the burden;

• Enhance the quality, utility, and clarity of the information to be collected; and

• Minimize the burden of collecting information on those who are to respond, including by using appropriate automated, electronic, mechanical, or other technological collection techniques or other forms of information technology.

Individuals and organizations may send comments on the information collection-related aspects of this rulemaking to the address listed in the ADDRESSES section at the beginning of this preamble by June 30, 2014. Comments also should be submitted to the Office of Management and Budget, Office of Information and Regulatory Affairs, Attention: Desk Officer for FAA, New Executive Office Building, Room 10202, 725 17th Street NW., Washington, DC 20053.

E. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this proposed rule and has determined that it would have little or no effect on international trade.

F. International Compatibility and Cooperation

In keeping with U.S. obligations under the Convention on International Civil Aviation, it is FAA policy to conform to International Civil Aviation Organization (ICAO) Standards and Recommended Practices to the maximum extent practicable. The FAA has determined that there are no ICAO Standards and Recommended Practices that correspond to these proposed regulations.

G. Executive Order 13609, Promoting International Regulatory Cooperation

Executive Order 13609, Promoting International Regulatory Cooperation, (77 FR 26413, May 4, 2012) promotes international regulatory cooperation to meet shared challenges involving health, safety, labor, security, environmental, and other issues and to reduce, eliminate, or prevent unnecessary differences in regulatory requirements. The FAA has analyzed this action under the policies and agency responsibilities of Executive Order 13609, and has determined that this action would have no effect on international regulatory cooperation.

H. Environmental Analysis

FAA Order 1050.1E identifies FAA actions that are categorically excluded from preparation of an environmental assessment or environmental impact statement under the National Environmental Policy Act in the absence of extraordinary circumstances. The FAA has determined this rulemaking action qualifies for the categorical exclusion identified in paragraph 312f and involves no extraordinary circumstances.

VII. Executive Order Determinations

A. Executive Order 13132, Federalism

The FAA has analyzed this proposed rule under the principles and criteria of Executive Order 13132, Federalism. The agency has determined that this action would not have a substantial direct effect on the States, or the relationship between the Federal Government and the States, or on the distribution of power and responsibilities among the various levels of government, and, therefore, would not have Federalism implications.

B. Executive Order 13211, Regulations that Significantly Affect Energy Supply, Distribution, or Use

The FAA analyzed this proposed rule under Executive Order 13211, Actions Concerning Regulations that Significantly Affect Energy Supply, Distribution, or Use (May 18, 2001). The agency has determined that it would not be a “significant energy action” under the executive order and would not be likely to have a significant adverse effect on the supply, distribution, or use of energy.

VIII. Additional Information

A. Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

Proprietary or Confidential Business Information: Commenters should not file proprietary or confidential business information in the docket. Such information must be sent or delivered directly to the person identified in the FOR FURTHER INFORMATION CONTACT section of this document, and marked as proprietary or confidential. If submitting information on a disk or CD ROM, mark the outside of the disk or CD ROM, and identify electronically within the disk or CD ROM the specific information that is proprietary or confidential.

Under 14 CFR 11.35(b), if the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under Department of Transportation procedures found in 49 CFR part 7.

B. Availability of Rulemaking Documents

An electronic copy of rulemaking documents may be obtained from the Internet by—

1. Searching the Federal eRulemaking Portal (http://www.regulations.gov);

2. Visiting the FAA's Regulations and Policies Web page at http://www.faa.gov/regulations_policies or

3. Accessing the Government Printing Office's Federal Digital System at http://www.gpo.gov/fdsys/.

Copies may also be obtained by sending a request to the Federal Aviation Administration, Office of Rulemaking, ARM-1, 800 Independence Avenue SW., Washington, DC 20591, or by calling (202) 267-9680. Commenters must identify the docket or notice number of this rulemaking.

All documents the FAA considered in developing this proposed rule, including economic analyses and technical reports, may be accessed from the Internet through the Federal eRulemaking Portal referenced in item (1) above.

List of Subjects in 14 CFR Part 121

Air carriers, Aircraft, Aviation safety, Charter flights, Reporting and recordkeeping requirements.

The Proposed Amendment

In consideration of the foregoing, the Federal Aviation Administration proposes to amend part 121 of title 14, Code of Federal Regulations as follows:

PART 121—OPERATING REQUIREMENTS: DOMESTIC, FLAG, AND SUPPLEMENTAL OPERATIONS

1. The authority citation for part 121 is revised to read as follows:

Authority: 49 U.S.C. 106(f), 106(g), 40103, 40113, 40119, 41706, 42301 preceding note added by Pub. L. 112-95, sec. 412, 126 Stat. 89, 44101, 44701-44702, 44705, 44709-44711, 44713, 44716-44717, 44722, 46105; Pub. L. 111-216, 124 Stat. 2348 (49 U.S.C. 44701 note).

2. Amend § 121.311 by adding a new paragraph (k) to read as follows:

§ 121.311 Seats, safety belts, and shoulder harnesses.

* * * * *

(k) Each air carrier that conducts operations under this part and that has a Web site must make available on its Web site the width of the widest passenger seat in each class of service for each airplane make, model and series operated by that air carrier in passenger-carrying operations.

3. Amend § 121.583 by revising paragraph (a) introductory text to read as follows:

§ 121.583 Carriage of persons without compliance with the passenger-carrying requirements of this part.

(a) When authorized by the certificate holder, the following persons, but no others, may be carried aboard an airplane without complying with the passenger-carrying airplane requirements in §§ 121.309(f), 121.310, 121.311(k), 121.391, 121.571, and 121.587; the passenger-carrying operation requirements in part 117 and §§ 121.157(c) and 121.291; and the requirements pertaining to passengers in §§ 121.285, 121.313(f), 121.317, 121.547, and 121.573:

* * * * *

Issued in Washington, DC, under the authority provided by 49 U.S.C. 106(f), 44701(a), and 49 U.S.C. 42301 preceding note added by Public Law 112-95, sec. 412, 126 Stat. 89 on March 25, 2014.
John S. Duncan,
Director, Flight Standards Service.

[FR Doc. 2014-07172 Filed 3-31-14; 8:45 am]

BILLING CODE 4910-13-P